DEPARTMENT OF ENERGY

Federal Energy Regulatory Commission

[Project No. 15024-000]

Pumped Hydro Storage LLC; Supplemental Notice Soliciting Comments

On March 12, 2020, Pumped Hydro Storage LLC filed an application for a preliminary permit to study the feasibility of the Big Canyon Pumped Storage Project No. 15024, which would be located entirely on lands within the Navajo Nation Reservation.

On February 15, 2024, the Commission established a new policy that it will not issue preliminary permits for projects proposing to use Tribal lands if the Tribe on whose lands the project is to be located opposes the permit.¹ In light of the new policy, the Commission is giving stakeholders 30 days from the issuance of this notice to provide additional comments on the Big Canyon Pumped Storage Project.

¹ Nature & People First Ariz. PHS, LLC, 186 FERC ¶ 61,117 (2024); Nature & People First N.M. PHS, LLC, 186 FERC ¶ 61,118 (2024); Nature & People First Ariz. PHS, LLC, 186 FERC ¶ 61,119 (2024); Western Navajo Pumped Storage 1, LLC, 186 FERC ¶ 61,120 (2024).

Dated: February 20, 2024.
Debbie-Anne A. Reese,
Acting Secretary.

[FR Doc. 2024-03928 Filed 2-26-24; 8:45 am]

BILLING CODE 6717-01-P